DEPARTMENT OF ENERGY

Federal Energy Regulatory Commission

Combined Notice of Filings

Take notice that the Commission has received the following Natural Gas Pipeline Rate and Refund Report filings:

Filings Instituting Proceedings

Docket Numbers: RP12-213-000.

Applicants: Equitrans, L.P.

Description: Equitrans, L.P. submits Operational Flow Order update.

Filed Date: 12/7/12.

Accession Number: 20121207-5056.

Comments Due: 5 p.m. ET 12/19/12.

Docket Numbers: RP13-377-000.

Applicants: Alliance Pipeline L.P.

Description: December 11-20, 2012 Auction to be effective 12/11/2012.

Filed Date: 12/7/12.

Accession Number: 20121207-5077.

Comments Due: 5 p.m. ET 12/19/12.

Docket Numbers: RP13-378-000.

Applicants: Viking Gas Transmission Company.

Description: 2012 Housekeeping to be effective 1/22/2013.

Filed Date: 12/7/12.

Accession Number: 20121207-5136.

Comments Due: 5 p.m. ET 12/19/12.

Docket Numbers: RP13-379-000.

Applicants: Viking Gas Transmission Company.

Description: Cancellation of Volume No. 1A to be effective 1/22/2013.

Filed Date: 12/7/12.

Accession Number: 20121207-5159.

Comments Due: 5 p.m. ET 12/19/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1104-002.

Applicants: Honeoye Storage Corporation.

Description: NAESB Order 587V Amended Filing Dec 7 Effective Dec 1 2012 to be effective 12/1/2012.

Filed Date: 12/7/12.

Accession Number: 20121207-5186.

Comments Due: 5 p.m. ET 12/19/12.

Docket Numbers: RP13-26-001.

Applicants: NGO Transmission, Inc.

Description: NGO Transmission—RP13-26 Compliance Filing to be effective 12/1/2012.

Filed Date: 12/7/12.

Accession Number: 20121207-5147.

Comments Due: 5 p.m. ET 12/19/12.

Docket Numbers: RP13-35-001.

Applicants: Iroquois Gas Transmission System, L.P.

Description: 12/07/12 FERC Order 587-V NAESB 2.0 Conditions to be effective 12/1/2012.

Filed Date: 12/7/12.

Accession Number: 20121207-5071.

Comments Due: 5 p.m. ET 12/19/12.

Docket Numbers: RP13-65-002.

Applicants: Destin Pipeline Company, L.L.C.

Description: NAESB Version 2.0 Compliance Filing 2 to be effective 12/1/2012.

Filed Date: 12/7/12.

Accession Number: 20121207-5173.

Comments Due: 5 p.m. ET 12/19/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 10, 2012.
Nathaniel J. Davis, Sr.,
Deputy Secretary.

[FR Doc. 2012-30285 Filed 12-14-12; 8:45 am]

BILLING CODE 6717-01-P